ENVIRONMENTAL PROTECTION AGENCY

40 CFR Part 300

[EPA-HQ-SFUND-1989-0011; FRL-9983-74—Region 3]

National Oil and Hazardous Substances Pollution Contingency Plan; National Priorities List: Deletion of the Recticon/Allied Steel Superfund Site

AGENCY: Environmental Protection Agency.

ACTION: Final rule.

SUMMARY: The Environmental Protection Agency (EPA) Region 3 announces the deletion of the Recticon/Allied Steel Corp Superfund Site (Site) located in East Coventry Twp, PA, from the National Priorities List (NPL). The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection, have determined that all appropriate response actions under CERCLA, have been completed. However, this deletion does not preclude future actions under Superfund.

DATES: This action is effective September 14, 2018.

ADDRESSES:

Docket: EPA has established a docket for this action under Docket Identification No. EPA-HQ-SFUND-1989-0011. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories.

Locations, contacts, phone numbers and viewing hours are:

USEPA Region III Administrative Records Room, 1650 Arch Street—6th Floor, Philadelphia, PA 19103-2029, 215-814-3157. Business Hours: Monday through Friday, 8:00 a.m.-4:30 p.m.; by appointment only.

Local Repository, East Coventry Township Municipal Building, 855 Ellis Woods Road, Pottstown, PA 19464, 610-495-5443. Call for Business Hours.

FOR FURTHER INFORMATION CONTACT: Andrew Hass, Remedial Project Manager, U.S. Environmental Protection Agency, Region 3, 3HS21 1650 Arch Street, Philadelphia, PA 19103, (215) 814-2049, email: hass.andrew@epa.gov.

SUPPLEMENTARY INFORMATION: The site to be deleted from the NPL is: Recticon/Allied Steel Corp Superfund Site, East Coventry Twp, PA. A Notice of Intent to Delete for this Site was published in the Federal Register (83 FR 33186-33191) on July 17, 2018.

The closing date for comments on the Notice of Intent to Delete was August 16, 2018. No adverse or site-specific public comments were received. As a result, a responsiveness summary was not prepared.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: August 31, 2018.
Cosmo Servidio,
Regional Administrator, Region III.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing the listing under Pennsylvania for “Recticon/Allied Steel Corp”.

[FR Doc. 2018-20039 Filed 9-13-18; 8:45 am]

BILLING CODE 6560-50-P